DEPARTMENT OF COMMERCE

National Oceanic and Atmospheric Administration

[RTID 0648-XA609]

North Pacific Fishery Management Council; Public Meetings

AGENCY: National Marine Fisheries Service (NMFS), National Oceanic and Atmospheric Administration (NOAA), Commerce.

ACTION: Notice of public meetings.

SUMMARY: A series of Economic Data Reporting (EDR) Stakeholder Discussions will be held on November 16, 2020, November 17, 2020, November 23, 2020, and November 24, 2020.

DATES: The meetings will be held via webconferences on Monday, November 16, 2020, Tuesday, November 17, 2020, Monday, November 23, 2020, and Tuesday, November 24, 2020, from 9 a.m. to 11 a.m., Alaska Time.

ADDRESSES: The meeting will be a webconference. Join online through the link at https://meetings.npfmc.org/Meeting/Details/1765.

Council address: North Pacific Fishery Management Council, 1007 W 3rd Ave., Anchorage, AK 99501-2252; telephone: (907) 271-2809. Instructions for attending the meeting are given under SUPPLEMENTARY INFORMATION, below.

FOR FURTHER INFORMATION CONTACT: Sarah Marrinan, Council staff; phone; (907) 271-2809 and email: sarah.marrinan@noaa.gov. For technical support please contact our administrative staff; email: npfmc.admin@noaa.gov.

SUPPLEMENTARY INFORMATION:

Agenda

Monday, November 16, 2020—Amendment 80 EDR

Tuesday, November 17, 2020—Bering Sea Aleutian Islands Crab Rationalization EDR

Monday, November 23, 2020—Amendment 91 Chinook Salmon EDR

Tuesday, November 24, 2020—Gulf of Alaska Trawl EDR

A series of EDR-specific stakeholder meetings will cover questions related to the relative burden of the data collections and concepts for improving their usability. The agenda for each meeting will introduce questions and provide opportunities for comment on proposed smaller and larger revisions specific to each EDR.The agenda is subject to change, and the latest version will be posted at https://meetings.npfmc.org/Meeting/Details/1765 prior to the meeting, along with meeting materials.

Connection Information

You can attend the meeting online using a computer, tablet, or smart phone; or by phone only. Connection information will be posted online at: https://meetings.npfmc.org/Meeting/Details/1765.

Public Comment

Public comment letters will be accepted and should be submitted electronically to https://meetings.npfmc.org/Meeting/Details/1765.

Authority: 16 U.S.C. 1801 et seq.

Dated: October 28, 2020.
Tracey L. Thompson,
Acting Deputy Director, Office of Sustainable Fisheries, National Marine Fisheries Service.

[FR Doc. 2020-24214 Filed 10-30-20; 8:45 am]

BILLING CODE 3510-22-P